DEPARTMENT OF TRANSPORTATION

Federal Motor Carrier Safety Administration

[Docket No. FMCSA-2018-0356]

Agency Information Collection Activities; Extension of a Currently-Approved Information Collection Request: Transportation of Household Goods; Consumer Protection

AGENCY: Federal Motor Carrier Safety Administration (FMCSA), DOT.

ACTION: Notice and request for information.

SUMMARY: In accordance with the Paperwork Reduction Act of 1995, the Federal Motor Carrier Safety Administration (FMCSA) announces its plan to submit the Information Collection Request (ICR) described below to the Office of Management and Budget (OMB) for its review and approval and invites public comment. The information collected will be used to help regulate motor carriers transporting household goods (HHG) for individual shippers. FMCSA requests approval to extend an ICR titled “Transportation of Household Goods; Consumer Protection.”

DATES: We must receive your comments on or before July 1, 2019.

ADDRESSES: You may submit comments identified by Federal Docket Management System (FDMS) Docket Number FMCSA-2018-0356 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Website. If you want us to notify you that we received your comments, please include a self-addressed, stamped envelope or postcard, or print the acknowledgement page that appears after submitting comments online. Comments received after the comment closing date will be included in the docket and will be considered to the extent practicable.

FOR FURTHER INFORMATION CONTACT: Monique Riddick, Lead Transportation Specialist, Commercial Enforcement and Investigations Division, Department of Transportation, Federal Motor Carrier Safety Administration, West Building 6th Floor, 1200 New Jersey Avenue SE, Washington, DC 20590. Telephone: (202) 366-8045; email Monique.Riddick@dot.gov.

SUPPLEMENTARY INFORMATION: Background: The Motor Carrier Safety Improvement Act of 1999 (MCSIA) (Pub. L. 106-159, 113 Stat. 1748, Dec. 9, 1999) authorized the Secretary of Transportation (Secretary) to regulate HHG carriers engaged in interstate operations for individual shippers. In earlier legislation, Congress abolished the former Interstate Commerce Commission and transferred the Commission's jurisdiction over HHG transportation to the U.S. Department of Transportation (DOT) (ICC Termination Act of 1995, Pub. L. 104-88, 109 Stat. 803, Dec. 29 1995). Prior to FMCSA's establishment, the Secretary delegated this HHG jurisdiction to the Federal Highway Administration, FMCSA's predecessor organization within DOT.

FMCSA has authority to regulate the overall commercial operations of the HHG industry under 49 U.S.C. 14104, “Household goods carrier operations.” This ICR includes the information collection requirements contained in title 49 CFR part 375, “Transportation of Household Goods in Interstate Commerce; Consumer Protection Regulations.” The information collected encompasses that which is generated, maintained, retained, disclosed, and provided to, or for, the agency under 49 CFR part 375.

Sections 4202 through 4216 of the Safe, Accountable, Flexible, Efficient Transportation Equity Act: A Legacy for Users (Pub. L. 109-59, 119 Stat. 1144, Aug. 10, 2005) amended various provisions of existing law regarding HHG transportation. It specifically addressed: Definitions (section 4202); payment of rates (section 4203); registration requirements (section 4204); carrier operations (section 4205); enforcement of regulations (section 4206); liability of carriers under receipts and bills of lading (section 4207); arbitration requirements (section 4208); civil penalties for brokers and unauthorized transportation (section 4209); penalties for holding goods hostage (section 4210); consumer handbook (section 4211); release of broker information (section 4212); working group for Federal-State relations (section 4213); consumer complaint information (section 4214); review of liability of carriers (section 4215); and application of State laws (section 4216). These provisions triggered updates to 49 CFR part 375 on July 5, 2007 (72 FR 36760).

On July 16, 2012, FMCSA published a Direct Final Rule (DFR) titled “Transportation of Household Goods in Interstate Commerce; Consumer Protection Regulations: Household Goods Motor Carrier Record Retention Requirements,” (77 FR 41699). The rule amended the regulations governing the period during which HHG motor carriers must retain documentation of an individual shipper's waiver of receipt of printed copies of consumer protection materials. This change harmonized the retention period with other document retention requirements applicable to HHG motor carriers. FMCSA also amended the regulations to clarify that a HHG motor carrier is not required to retain waiver documentation from any individual shippers for whom the carrier does not actually provide services.

Title: Transportation of Household Goods; Consumer Protection.

OMB Control Number: 2126-0025.

Type of Request: Extension of a currently-approved information collection.

Respondents: Household goods movers.

Estimated Number of Respondents: 4,212 household goods movers.

Estimated Time per Response: Varies.

IC-1: Informational Documents Provided to Prospective Shippers

• “Ready to Move” Pamphlet: Less than 1 minute.

• “Your Rights and Responsibilities” Pamphlet: Less than 1 minute.

• Arbitration and Complaint Summaries: 2 hours to create summaries, less than 1 minute to print.

• Internet website Hyperlinks to Federal Consumer Protection Information: 0.5 hours.

• Signed Receipt for Verification of Booklets Received: less than 3 minutes.

IC-2: Written Cost Estimates for Prospective Shippers

• Physical surveys—binding: 2 hours.

• Physical surveys—non-binding: 2 hours.

• No physical surveys—non-binding: 0.5 hours.

IC-3: Orders for Service, Bills of Lading

• Orders for Service, Goods Inventories, and Bills of Lading: 0.5 hours.

• Weighing shipments: 1 minute.

IC-4: In-Transit Service Notifications

• Notification of delay: 5 minutes.

• Notification of delay and record requested: 15 minutes.

• Notification of early delivery: 5 minutes.

IC-5: Complaint & Inquiry Records, Including Establishing Record System

• Establish complain and inquiry record system: 0.5 hours.

• Recording complaint and inquiry: 5 minutes for complaint, 1 minute for inquiry.

Expiration Date: August 31, 2019.

Frequency of Response: Varies.

Estimated Total Annual Burden: 4,282,171 hours [IC-1 Informational Documents Provided to Prospective Shippers at 24,692 hours + IC-2 Written Cost Estimates for Prospective Shippers at 3,593,866 hours + IC-3 Orders for Service, Bills of Lading at 621,621 hours + IC-4 In-Transit Service Notifications at 17,496 hours + IC-5 Complaint & Inquiry Records, Including Establishing Record System at 24,496 hours].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the information collected. The Agency will summarize or include your comments in the request for OMB's clearance of this ICR.

Issued under the authority of 49 CFR 1.87.
G. Kelly Regal,
Associate Administrator for Office of Research and Information Technology.

[FR Doc. 2019-08964 Filed 5-1-19; 8:45 am]

BILLING CODE 4910-EX-P